FEDERAL COMMUNICATIONS COMMISSION

47 CFR Part 73

[DA 03-745, MB Docket No. 02-282, RM-10523]

Digital Television Broadcast Service; Minot, ND

AGENCY: Federal Communications Commission.

ACTION: Final rule.

SUMMARY: The Commission, at the request of Prairie Public Broadcasting, substitutes DTV channel *40 for DTV channel *57 at Minot, North Dakota. See 17 FCC Rcd 18093 (2002). DTV channel *40 can be allotted to Minot, North Dakota, in compliance with the principle community coverage requirements of Section 73.625(a) at reference coordinates 48-03-02 N. and 101-23-25 W. with a power of 1000, HAAT of 253 meters and with a DTV service population of 85 thousand. Since the community of Minot is located within 400 kilometers of the U.S.-Canadian border, concurrence from the Canadian government has been obtained for this allotment. With this action, this proceeding is terminated.

DATES: Effective May 5, 2003.

FOR FURTHER INFORMATION CONTACT: Pam Blumenthal, Media Bureau, (202) 418-1600.

SUPPLEMENTARY INFORMATION: This is a synopsis of the Commission's Report and Order, MB Docket No. 02-282, adopted March 11, 2003, and released March 20, 2003. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC 20554, telephone (202) 863-2893, facsimile (202) 863-2898, or via e-mail qualexint@aol.com.

List of Subjects in 47 CFR Part 73

Digital television broadcasting, Television.

Part 73 of Title 47 of the Code of Federal Regulations is amended as follows:

PART 73—[AMENDED]

1. The authority citation for Part 73 continues to read as follows:

Authority: 47 U.S.C. 154, 303, 334 and 336.

§ 73.622 [Amended]

2. Section 73.622(b), the Table of Digital Television Allotments under North Dakota, is amended by removing DTV channel *57 and adding DTV channel *40 at Minot.

Federal Communications Commission.
Barbara A. Kreisman,
Chief, Video Division, Media Bureau.

[FR Doc. 03-6875 Filed 3-21-03; 8:45 am]

BILLING CODE 6712-01-P